NATIONAL CAPITAL PLANNING COMMISSION

Proposed Submission Guidelines for Development Proposals Subject to Statutorily-Mandated Plan and Project Review

AGENCY: National Capital Planning Commission.

ACTION: Notice of availability; request for comment; notice of public meetings.

SUMMARY: The National Capital Planning Commission (NCPC or Commission) proposes to adopt new Submission Guidelines. The proposed Submission guidelines are available for public comment as of the date of this notice.

DATES: Submit comments on or before Comments due by July 10, 2017. Public meetings to discuss the proposed Submission Guidelines will be held on Tuesday, June 13, 2017 from 6:00 p.m.- 7:30 p.m. and Thursday, June 15, 2017 from 9:30 a.m.-11:00 a.m.

ADDRESSES: The proposed Submission Guidelines are available at: https://www.ncpc.gov/initiatives/subnepa.html. You may submit written comments on the proposal by either of the methods listed below.

1. U.S. mail, courier, or hand delivery: Urban Design Plan Review Division/National Capital Planning Commission, 401 9th Street NW., Suite 500, Washington, DC 20004.

2. Electronically: submission@ncpc.gov.

Both public meetings will be held at the National Capital Planning Commission, 401 9th Street NW., Suite 500, Washington, DC 20004.

FOR FURTHER INFORMATION, CONTACT: Matthew Flis, Senior Urban Designer at (202) 482-7236 or submission@ncpc.gov.

SUPPLEMENTARY INFORMATION:

Public Meetings

No prior registration is required to speak at the meetings. Reasonable accommodations are available upon request to the contact individual noted above.

NCPC Submission Guidelines

Federal and non-Federal agency applicants whose development proposals are subject to statutorily-mandated Commission plan and project review must submit their proposals to the Commission following a process laid out in the Submission Guidelines. The Submission Guidelines describe the content of submissions, the submission stages, and the coordination and review process governing submissions.

The proposed Submission Guidelines accomplish three primary objectives: (1) Create clear, accessible, and efficient guidelines that are responsive to applicant needs; (2) Align NCPC's review stages and National Environmental Policy Act requirements with those of applicant agencies to save time and resources in the planning process; and (3) Allow staff to exempt from Commission review certain minor projects based on specific criteria where there is no federal interest.

Authority: 40 U.S.C. 8721(e)(2) and 8722(a).

Dated: May 23, 2017.
Anne R. Schuyler,
General Counsel.

[FR Doc. 2017-10937 Filed 5-25-17; 8:45 am]

BILLING CODE 7520-01-P